DEPARTMENT OF ENERGY

Federal Energy Regulatory Commission

Combined Notice of Filings #2

Take notice that the Commission received the following electric corporate filings:

Docket Numbers: EC17-47-000.

Applicants: Wisconsin Power and Light Company, Wisconsin Public Service Corporation, Madison Gas and Electric Company.

Description: Second Supplement to December 13, 2016 Joint Application (Additional Information) under Section 203 of the Federal Power Act of Wisconsin Power and Light Company, et al.

Filed Date: 5/8/17.

Accession Number: 20170508-5135.

Comments Due: 5 p.m. ET 5/18/17.

Take notice that the Commission received the following electric rate filings:

Docket Numbers: ER10-2507-012.

Applicants: Westar Energy Inc.

Description: Notice of Non-Material Change in Status of Westar Energy Inc.

Filed Date: 5/4/17.

Accession Number: 20170504-5160.

Comments Due: 5 p.m. ET 5/25/17.

Docket Numbers: ER10-2563-005; ER10-1882-005; ER10-1894-008; ER10-3036-005; ER10-3042-006.

Applicants: Wisconsin Electric Power Company, Wisconsin Public Service Corporation, Wisconsin River Power Company, WPS Power Development LLC, Combined Locks Energy Center, LLC.

Description: Supplement to March 1, 2017 Notification of Change of Status of the WEC MBR Entities.

Filed Date: 5/4/17.

Accession Number: 20170504-5163.

Comments Due: 5 p.m. ET 5/25/17.

Docket Numbers: ER11-4369-001; ER16-2218-001.

Applicants: North American Power and Gas, LLC, North American Power Business, LLC.

Description: Supplement to February 16, 2017 Notification of Change in Status of the North American MBR Sellers.

Filed Date: 5/4/17.

Accession Number: 20170504-5165.

Comments Due: 5 p.m. ET 5/25/17.

Docket Numbers: ER17-696-001.

Applicants: Calpine Energy Solutions, LLC.

Description: Supplement to December 30, 2016 Notification of Change in Status of Calpine Energy Solutions, LLC.

Filed Date: 5/4/17.

Accession Number: 20170504-5164.

Comments Due: 5 p.m. ET 5/25/17.

Docket Numbers: ER17-1560-000.

Applicants: PJM Interconnection, L.L.C.

Description: § 205(d) Rate Filing: Amendment to Service Agreement No. 4658; Queue No. AA2-088 to be effective 2/22/2017.

Filed Date: 5/8/17.

Accession Number: 20170508-5078.

Comments Due: 5 p.m. ET 5/30/17.

Docket Numbers: ER17-1561-000.

Applicants: New York Independent System Operator, Inc.

Description: Compliance filing: Compliance filing of tariff revision Order No. 831 Offer Caps in ISO/RTO markets to be effective 12/31/9998.

Filed Date: 5/8/17.

Accession Number: 20170508-5119.

Comments Due: 5 p.m. ET 5/30/17.

Docket Numbers: ER17-1562-000.

Applicants: Energy Unlimited, Inc.

Description: Baseline eTariff Filing: Energy Unlimited, Inc. MBR Tariff to be effective 5/9/2017.

Filed Date: 5/8/17.

Accession Number: 20170508-5124.

Comments Due: 5 p.m. ET 5/30/17.

Docket Numbers: ER17-1563-000.

Applicants: Midcontinent Independent System Operator, Inc.

Description: § 205(d) Rate Filing: 2017-05-08_SA 2294 Heritage Garden Wind Farm—ATC Amended GIA to be effective 5/9/2017.

Filed Date: 5/8/17.

Accession Number: 20170508-5128.

Comments Due: 5 p.m. ET 5/30/17.

Docket Numbers: ER17-1564-000.

Applicants: Public Service Company of New Hampshire.

Description: Tariff Cancellation: Cancellation of Lafayette Hydropower, PSNH Rate Schedule No. IA-PSNH-12 to be effective 4/25/2017.

Filed Date: 5/8/17.

Accession Number: 20170508-5132.

Comments Due: 5 p.m. ET 5/30/17.

Docket Numbers: ER17-1565-000.

Applicants: ISO New England Inc., New England Power Pool Participants Committee.

Description: Compliance filing: MR 1 Revisions to Modify Energy Market Offer Caps in Compliance w/Order No. 831 to be effective 10/1/2019.

Filed Date: 5/8/17.

Accession Number: 20170508-5137.

Comments Due: 5 p.m. ET 5/30/17.

Docket Numbers: ER17-1566-000.

Applicants: Public Service Company of New Hampshire.

Description: § 205(d) Rate Filing: Two Party Small Generator Interconnection Agreement with Sugar River Power LLC to be effective 4/25/2017.

Filed Date: 5/8/17.

Accession Number: 20170508-5138.

Comments Due: 5 p.m. ET 5/30/17.

Docket Numbers: ER17-1567-000.

Applicants: PJM Interconnection, L.L.C.

Description: Compliance filing: Compliance Filing RE: Docket No. RM16-5-000 and Order No. 831 to be effective 11/1/2017.

Filed Date: 5/8/17.

Accession Number: 20170508-5140.

Comments Due: 5 p.m. ET 5/30/17.

Docket Numbers: ER17-1568-000.

Applicants: Southwest Power Pool, Inc.

Description: Compliance filing: Order No. 831 Compliance Filing to be effective 4/1/2019.

Filed Date: 5/8/17.

Accession Number: 20170508-5148.

Comments Due: 5 p.m. ET 5/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2017.
Kimberly D. Bose,
Secretary.

[FR Doc. 2017-09673 Filed 5-12-17; 8:45 am]

BILLING CODE 6717-01-P